NATIONAL ARCHIVES AND RECORDS ADMINISTRATION

Electronic Records Policy Working Group Public Meeting

AGENCY: National Archives and Records Administration (NARA).

ACTION: Notice of public meeting.

SUMMARY: The Electronic Records Policy Working Group is holding a public meeting to obtain views from the public and Federal agencies on implementing section 207(e)(1)(A) of the E-Government Act of 2002. That section calls for “the adoption by agencies of policies and procedures to ensure that chapters 21, 25, 27, 29, and 31 of title 44, United States Code, are applied effectively and comprehensively to Government information on the Internet and to other electronic records.” Additional information on the Electronic Records Policy Working Group and the meeting agenda is provided in the SUPPLEMENTARY INFORMATION section of this notice.

DATES: The meeting will be held on March 30, 2004, from 1 p.m. to 4 p.m.

Because seating is limited to 200 people and we must provide a list of attendees to the building security staff in advance, you must register no later than March 26, 2004. Registrations will be taken on a first-come, first-served basis.

ADDRESSES: The location of the meeting is: National Capital Planning Commission, 401 9th Street, NW., Suite 500 North, Washington DC 20576.

FOR FURTHER INFORMATION CONTACT: Pamela Mason at 301-837-0975 or pamela.mason@nara.gov.

SUPPLEMENTARY INFORMATION: The Electronic Records Working Group was established by the Interagency Committee on Government Information (ICGI), to fulfill the requirements of subsection 207(e) of the Act, “Public Access to Electronic Information.” The Working Group's members are drawn from a number of Federal agencies, with NARA as the chair. The Working Group has held several focus groups with interested stakeholders from Federal agencies, public interest groups, and professional organizations to address the following three issues:

• The definition to be used for “Government information on the Internet and other electronic records”.

The operating definitions currently used by the Working Group are as follows:

Government information on the Internet—

• Information posted on Government Web sites,

• Information exchanged between Federal agencies,

• Information exchanged between Federal agencies and the public,

• Information exchanged between Federal agencies and other governments,

• Government-enabled Web services,

• Standard government forms,

• E-government business transactions.

Other electronic records—Electronic information meeting the definition of a Federal record per 44 U.S.C. 3301. Records include:

• All books, papers, maps, photographs, machine readable materials, or other documentary materials,

• Regardless of physical form or characteristics,

• Made or received by an agency of the United States government:

• Under Federal law, or

• In connection with the transaction of public business;

• And preserved or appropriate for preservation by that agency or its legitimate successor:

• As evidence of the organization, functions, policies, decisions, procedures, operations or other activities of the government, or

• Because of the informational value of the data in them (44 U.S.C. 3301).

• Perceived barriers to effective management of “Government information on the Internet and other electronic records”.

The operating definition of effective management currently used by the Working Group includes:

• Managing through the life cycle,

• Providing for accessibility and retrieval,

• Providing sufficient security,

• Ensuring consistency (ability to reproduce record),

• Providing for the integrity of records over time,

• Ensuring no loss of records,

• Ensuring compatibility with standard formats,

• Managing format changes over time,

• Providing for long-term record storage and migration of formats,

• Managing the location of records over time,

• Cost effective,

• Appropriate long-term custodianship.

• What guidance tools would assist in overcoming the identified barriers.

At this public meeting, the Working Group will highlight findings from the focus groups and seek additional comments from the attendees on the three issues.

Dated: February 25, 2004.
Michael J. Kurtz,
Assistant Archivist for Records Services—Washington, DC.

[FR Doc. 04-4612 Filed 3-1-04; 8:45 am]

BILLING CODE 7515-01-P